DEPARTMENT OF DEFENSE

Department of Navy

Notice of Availability of Government-Owned Inventions; Available for Licensing

AGENCY: Department of the Navy, DoD.

ACTION: Notice.

SUMMARY: The inventions listed below are assigned to the United States Government as represented by the Secretary of the Navy and are available for licensing by the Department of the Navy.

The following patents are available for licensing:

U.S. Patent No. 7,836,723 B2: Air Conditioning System, issued on November 23, 2010

U.S. Patent No. 7,667,399 B2: Large Area Hybrid Photomultiplier Tube, issued on February 23, 2010

U.S. Patent No. 7,687,992 B2: Gating Large Area Hybrid Photomultiplier Tube, issued on March 30, 2010

U.S. Patent No. 7,714,991 B1: Fiber Optic Optical Subassembly Configuration, issued on May 11, 2010

U.S. Patent No. 7,776,233 B2: Oleaginous Corrosion Resistant Composition, issued on August 17, 2010

U.S. Patent No. 7,811,391: Composition and Process for Preparing Protective Coatings on Metal Substrates, issued on October 12, 2010

U.S. Patent No. 7,819,031 B2: Parachute Opening and Shock Emulator, issued October 26, 2010

U.S. Patent No. 7,820,076 B2: Oleaginous Corrosion and Mildew-Inhibiting Composition, issued October 26, 2010

U.S. Patent Application No. 7,839,304 B2: Method and System for Alerting Aircrew to Unsafe Vibration Levels, issued November 23, 2010

U.S. Patent No. 7,853,144 B2: Optical Bench Fiber Optic Transmitter, issued December 14, 2010

U.S. Patent No. 7,897,558 B1: Siloxane Solvent Composition, issued March 1, 2011

U.S. Patent No. 7,954,410 B2: Fast Rope, issued June 7, 2011

U.S. Patent Application No. 12/554,147: Integrated Net-Centric Diagnostics Dataflow for Avionics System, Navy Case No. 98492, filed on September 4, 2009

U.S. Patent Application No. 12/821,812: Global Visualization Process Terrain Database Builder, Navy Case No. PAX31, filed on June 23, 2010

U.S. Patent Application No. 12/945,923: Body Core Thermo-Regulation Cooling Sleeve, Navy Case No. PAX33, filed on August 26, 2010

U.S. Patent Application No. 12/868,772: Colorimetric Method for Detection of Biodiesel in Fuel, Navy Case No. PAX37, filed on August 26, 2010

U.S. Patent Application No. 12/905,177: Gradient Magnetometer Atom Interferometer, Navy Case No. PAX41, filed on October 15, 2010

U.S. Patent Application No. 12/792, 183: Extended Range Optical Imaging System for use in Turbid Media, Navy Case No. PAX44, filed on June 2, 2010.

ADDRESSES: Requests for data and inventor interviews should be directed to Mr. Paul Fritz, Naval Air Warfare Center Aircraft Division, Business and Partnership Office, Office of Research and Technology Applications, Building 505, 22473 Millstone Road, Patuxent River, MD 20670, 301-342-5586 or e-mail paul.fritz@navy.mil.

DATES: Requests for data, samples, and inventor interviews should be made prior to August 31, 2011.

FOR FURTHER INFORMATION CONTACT: Mr. Paul Fritz, Naval Air Warfare Center Aircraft Division, Business and Partnership Office, Office of Research and Technology Applications, Building 505, 22473 Millstone Road, Patuxent River, MD 20670, 301-342-5586 or e-mail paul.fritz@navy.mil.

SUPPLEMENTARY INFORMATION: The U.S. Navy intends to move expeditiously to license these inventions. All licensing application packages and commercialization plans must be returned to Naval Air Warfare Center Aircraft Division, Business and Partnership Office, Office of Research and Technology Applications, Building 505, 22473 Millstone Road, Patuxent River, MD 20670.

The Navy, in its decisions concerning the granting of licenses, will give special consideration to existing licensee's, small business firms, and consortia involving small business firms. The Navy intends to ensure that its licensed inventions are broadly commercialized throughout the United States.

A Patent Cooperative Treaty application may be filed for each of the patents as noted above. The Navy intends that licensees interested in a license in territories outside of the United States will assume foreign prosecution and pay the cost of such prosecution.

Authority: 35 U.S.C. 207, 37 CFR part 404.

Dated: June 21, 2011.
L.R. Almand,
Office of the Judge Advocate General, U.S. Navy, Alternate Federal Register Liaison Officer.

[FR Doc. 2011-16135 Filed 6-27-11; 8:45 am]

BILLING CODE 3810-FF-P